DEPARTMENT OF ENERGY

Federal Energy Regulatory Commission

[Project No. 12758-004—Louisiana Red River Lock & Dam No. 5 Hydroelectric Project]

BOST5 Hydroelectric LLC; Notice of Proposed Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Louisiana State Historic Preservation Officer (Louisiana SHPO) and the Advisory Council on Historic Preservation (Advisory Council) pursuant to the Advisory Council's regulations, 36 CFR part 800, implementing section 106 of the National Historic Preservation Act, as amended, (16 U.S.C. 470f), to prepare and execute a programmatic agreement for managing properties included in, or eligible for inclusion in, the National Register of Historic Places that could be affected by issuance of a license for the proposed Red River Lock & Dam No. 5 Hydroelectric Project No. 12758.

The programmatic agreement, when executed by the Commission and the Louisiana SHPO, would satisfy the Commission's section 106 responsibilities for all individual undertakings carried out in accordance with the license until the license expires or is terminated (36 CFR 800.13e). The Commission's responsibilities pursuant to section 106 for the proposed project would be fulfilled through the programmatic agreement, which staff proposes to draft in consultation with certain parties listed below.

BOST5 Hydroelectric LLC, as applicant for the proposed Red River Lock & Dam No. 5 Project No. 12758, is invited to participate in consultations to develop the programmatic agreement. For purposes of commenting on the programmatic agreement, staff proposes to restrict the service list for the aforementioned project as follows:

John Eddins, Advisory Council on Historic, Preservation, The Old Post Office Building, Suite 803, 1100 Pennsylvania Avenue NW., Washington, DC 20004 | Douglas A. Spalding, Nelson Energy, LLC, Agent for BOST5 Hydroelectric LLC, 8441 Wayzata Blvd., Suite 101, Golden Valley, MN 55426.
Pam Breaux, SHPO, Louisiana Department of Culture, Recreation & Tourism, P.O. Box 44247, Baton Rouge, LA 70804 | Dr. Linda Langley, Coushatta Tribe of Louisiana, P.O. Box 818, Elton, LA 70532.
Rachel Watson or Representative, Louisiana Department of Culture, Recreation & Tourism, P.O. Box 44247, Baton Rouge, LA 70804 | Andrew Tomlinson or Representative, U.S. Army Corps of Engineers, 4155 Clay Street, Room 230, Vicksburg, MS 39183.

Any person on the official service list for the above-captioned proceeding may request inclusion on the restricted service list, or may request that a restricted service list not be established, by filing a motion to that effect within 15 days of this notice date. In a request for inclusion, please identify the reason or reasons why there is an interest to be included. Also please identify any concerns about historic properties, including traditional cultural properties. If historic properties are identified within the motion, please use a separate page, and label it NON-PUBLIC Information.

Any such motions may be filed electronically via the Internet. See 18 CFR 385.2001(a)(1)(iii) and the instructions on the Commission's Web site (http://www.ferc.gov/docs-filing/ferconline.asp) under the “eFiling” link. For a simpler method of submitting text only comments click on “Quick Comment.” For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426. Please put the project number (P-12758-004) on the first page of the filing.

If no such motions are filed, the restricted service list will be effective at the end of the 15-day period. Otherwise, a further notice will be issued ruling on any motion or motions filed within the 15-day period.

Dated: April 19, 2012.
Kimberly D. Bose,
Secretary.

[FR Doc. 2012-10070 Filed 4-25-12; 8:45 am]

BILLING CODE 6717-01-P